DEPARTMENT OF HOUSING AND URBAN DEVELOPMENT

[Docket No. FR-5228-FA-01]

Announcement of Funding Awards for the Rental Assistance for Non-Elderly Persons With Disabilities in Support of Designated Housing Plans for Fiscal Year 2008

AGENCY: Office of Public and Indian Housing, HUD.

ACTION: Announcement of Funding Awards.

SUMMARY: In accordance with Section 102(a)(4)(C) of the Department of Housing and Urban Development Reform Act of 1989, this announcement notifies the public of funding decisions made by the Department for funding under the FY 2008 Notice of Funding Availability (NOFA) for the Rental Assistance for Non-Elderly Persons with Disabilities in Support of Designated Housing Plans program funding for Fiscal Year 2008. This announcement contains the consolidated names and addresses of those award recipients selected for funding based on guidelines established in the NOFA.

FOR FURTHER INFORMATION CONTACT: For questions concerning the FY 2008 Rental Assistance for Non-Elderly Persons with Disabilities in Support of Designated Housing Plans program awards, contact the Office of Public and Indian Housing's Grant Management Center, Acting Director, Keia L. Neal, Department of Housing and Urban Development, Washington, DC, telephone (202) 475-8908. For the hearing or speech impaired, these numbers may be accessed via TTY (text telephone) by calling the Federal Information Relay Service at 1 (800) 877-8339. (Other than the “800” TTY number, these telephone numbers are not toll-free.)

SUPPLEMENTARY INFORMATION: The authority for the $15,000,000 in one-year budget authority for the Rental Assistance for Non-Elderly Persons with Disabilities in Support of Designated Housing Plans program is found in the Departments of Veteran Affairs and Housing and Urban Development, and Independent Agencies Appropriations Act, 2008 (Pub. L.110-161). The allocation of housing assistance budget authority is pursuant to the provisions of 24 CFR part 791, subpart D, implementing section 213(d) of the Housing and Community Development Act of 1974, as amended.

The purpose of the Rental Assistance for Non-Elderly Persons with Disabilities in Support of Designated Housing Plans program is to provide vouchers to non-elderly disabled families that would have been housed by a PHA if occupancy in the designated public housing project/building (or portion thereof) were not restricted to elderly households. The vouchers will enable non-elderly disabled families to access affordable private housing.

The Fiscal Year 2008 awards announced in this Notice were selected for funding in a competition announced in the Federal Register NOFA published on November 28, 2008. In accordance with Section 102(a)(4)(C) of the Department of Housing and Urban Development Reform Act of 1989 (103 Stat. 1987, 42 U.S.C. 3545), the Department is publishing the names, addresses, and amounts of the fourteen (14) awards made under the Rental Assistance for Non-Elderly Persons with Disabilities in Support of Designated Housing Plans program competition.

Dated: July 29, 2009.
Sandra B. Henriquez,
Assistant Secretary for Public and Indian Housing, P.

Recipient | Address/City/State/Zip code | Amount | Vouchers
Sacramento County Housing Authority | 630 I Street, Sacramento, CA 95814 | $878,784 | 100
Housing Authority of the City of Orlando, FL | 390 North Bumby Avenue, Orlando, FL 32803 | $740,124 | 100
City of Des Moines Municipal Housing Agency | 100 East Euclid Avenue, Suite 101, Des Moines, IA 50313 | $251,907 | 53
Chicago Housing Authority | 60 East Van Buren Street, Chicago, IL 60605 | $948,012 | 100
Housing Authority of Joliet | 6 South Broadway Street, Joliet, IL 60436 | $222,269 | 45
Housing Authority of the County of Cook | 175 West Jackson Boulevard, Suite 350, Chicago, IL 60604 | $981,732 | 100
Topeka Housing Authority | 2010 South East California Avenue, Topeka, KS 66607 | $298,539 | 75
Cambridge Housing Authority | 675 Mass Avenue, Cambridge, MA, 02139 | $1,477,092 | 100
Framingham Housing Authority | 1 John J. Brady Drive, Framingham, MA 01702 | $945,983 | 90
Housing Opportunities Commission of Montgomery County, MD | 10400 Detrick Avenue, Kensington, MD 20895 | $1,229,004 | 100
Housing Authority of the County of Butler | 114 Woody Drive, Butler, PA 16001 | $274,608 | 50
Town of Cumberland Housing Authority | 573 Mendon Road Suite #4, Cumberland, RI 02864 | $228,107 | 29
Town of North Providence Housing Authority | 945 Charles Street, North Providence, RI 02904 | $188,544 | 25
King County Housing Authority | 600 Andover Park West, Tukwila, WA 98188 | $868,128 | 100

[FR Doc. E9-18624 Filed 8-4-09; 8:45 am]

BILLING CODE 4210-67-P